DEPARTMENT OF LABOR

Employment and Training Administration

[TA-W-58,228]

General Electric Newark Quartz, A Division of General Electric; Hebron, OH; Notice of Termination of Investigation

Pursuant to section 221 of the Trade Act of 1974, as amended, an investigation was initiated on October 28, 2005 in response to a worker petition filed by a company official on behalf of workers at General Electric Newark Quartz, a division of General Electric, Hebron, Ohio.

The petitioner has requested that the petition be withdrawn. Consequently, the investigation has been terminated.

Signed at Washington, DC, this 30th day of November, 2005.
Richard Church,
Certifying Officer, Division of Trade Adjustment Assistance.

[FR Doc. E5-7051 Filed 12-7-05; 8:45 am]

BILLING CODE 4510-30-P